DEPARTMENT OF TRANSPORTATION

Federal Aviation Administration

14 CFR Parts 61 and 183

[Docket No.: FAA-2010-1127; Amdt. Nos. 61-135 and 183-15]

RIN 2120-AJ42

Student Pilot Application Requirements

Correction

In rule document 2016-00199 beginning on page 1292 in the issue of Tuesday, January 12, 2016, make the following correction:

1. On pages 1293-1294, table “B. Student Pilot Application Requirements: Summary of Current, Proposed, and Finalized Provisions” is corrected as set forth below.

B. Student Pilot Application Requirements: Summary of Current, Proposed, and Finalized Provisions

Scenario | Current regulations | 2010 NPRM | Final rule requirements
Digital Photos on all Pilot Certificates | • No photo on pilot certificate • Pilot must have photo identification on the person and in the physical possession or readily accessible in the aircraft when exercising the privileges of the pilot certificate or authorization | • Photo on pilot certificate • Pilot must carry pilot certificate with photo according to proposed implementation schedule | • No change from current regulations.
Application and Certificate Issuance | • A student pilot typically obtains a combination medical certificate and student pilot certificate from an aviation medical examiner (AME) • A student pilot applicant may obtain a student pilot certificate from an aviation safety inspector (ASI) or aviation safety technician (AST) located at a Flight Standards District Office (FSDO) throughout the country • A student pilot applicant may obtain a student pilot certificate from a designated pilot examiner (DPE) | • A student pilot applicant would not be issued a student pilot certificate at the time of application • A student pilot must obtain a student pilot certificate that is issued by the Civil Aviation Registry prior to exercising the privileges of the student pilot certificate • An AME would not issue a combination medical certificate and student pilot certificate or accept an application for a student pilot certificate • A student pilot applicant could apply in person with an ASI or AST at a FSDO • A student pilot applicant could apply in person with a DPE • A student pilot applicant could apply in person at a Knowledge Testing Center (KTC) | • A student pilot will not be issued a student pilot certificate at the time of application. • A student pilot must obtain a student pilot certificate that is issued by the Civil Aviation Registry prior to exercising the privileges of the student pilot certificate • An AME will not issue a combination medical certificate and student pilot certificate or accept an application for a student pilot certificate • A student pilot applicant may apply in person with an ASI or AST at a FSDO • A student pilot applicant may apply in person through a DPE • A student pilot applicant may apply in person with an airman certification representative (ACR) associated with a part 141 pilot school • A student pilot applicant may apply in person with a certified flight instructor (CFI).
Implementation Schedule | • None previously required. Proposals were based upon the implementation of digital photos on all pilot certificates | • A 5-year phased implementation schedule that included a “trigger-based” approach to issue pilot certificates with photos to people interacting with the FAA and a “non-trigger based” approach that required pilots to obtain a pilot certificate with a photo during a 3-, 4-, or 5-year period depending on the type of certificate • An effective date of 180 days from the date of publication in the Federal Register | • An effective date of the first day of the calendar month following 60 days from the date of publication in the Federal Register • Current student pilot certificate holders may continue exercising the privileges of the student pilot certificate until the certificate expires according to its current terms.
Fees | • The FAA charges a $2 fee for replacement, duplicate, or facsimile of a pilot certificate | • The FAA would charge $22 for initial issuance or renewal of a pilot certificate | • The FAA will charge a $2 fee for replacement of a pilot certificate including a student pilot certificate which is consistent with existing § 187.5
Expiration date | • The student pilot certificate is valid for a period of 24 or 60 calendar months after the date of issuance, depending on the age of the student pilot | • The student pilot certificate would have no expiration date, although the photo would need to be updated every 8 years to continue exercising privileges of the student pilot certificate | • The student pilot certificate has no expiration date.
Student Pilot Endorsements | • Flight Instructor endorses the student pilot certificate and the student's logbook | • Flight Instructor would endorse the student's logbook | • Flight Instructor endorses the student's logbook.

[FR Doc. C1-2016-00199 Filed 2-3-16; 8:45 am]

BILLING CODE 1505-01-D